DEPARTMENT OF COMMERCE

International Trade Administration

[A-552-801]

Certain Frozen Fish Fillets From the Socialist Republic of Vietnam: Final Results of Antidumping Duty New Shipper Review; 2022-2023

AGENCY: Enforcement and Compliance, International Trade Administration, Department of Commerce.

SUMMARY: The U.S. Department of Commerce (Commerce) has conducted a new shipper review of Co May Import-Export Company Limited (Co May) regarding the antidumping duty order on certain frozen fish fillets (fish fillets) from the Socialist Republic of Vietnam (Vietnam). The period of review (POR) is August 1, 2022, through January 31, 2023. Based on our analysis, Commerce finds that Co May did not make sales of subject merchandise at prices below normal value during the POR.

DATES: Applicable June 25, 2024.

FOR FURTHER INFORMATION CONTACT: Javier Barrientos, AD/CVD Operations, Office V, Enforcement and Compliance, International Trade Administration, U.S. Department of Commerce, 1401 Constitution Avenue NW, Washington, DC 20230; telephone: (202) 482-2243.

SUPPLEMENTARY INFORMATION:

Background

On January 30, 2024, Commerce published the Preliminary Results of this new shipper review and invited interested parties to comment.¹ On April 5, 2024, Commerce extended the deadline for issuance of these final results to June 14, 2024.² On May 17, 2024, the petitioners ³ submitted a case brief.⁴ On May 22, 2024, Co May submitted a rebuttal brief.⁵ On May 30, 2024, Commerce held a public hearing.⁶ For a complete description of the events that occurred subsequent to the Preliminary Results, see the Issues and Decision Memorandum.⁷

¹ See Certain Frozen Fish Fillets from the Socialist Republic of Vietnam: Preliminary Results of New Shipper Review; 2022-2023, 89 FR 5862 (January 30, 2024) (Preliminary Results), and accompanying Preliminary Decision Memorandum.

² See Memorandum, “Extension of Deadline for Final Results of Antidumping Duty New Shipper Review,” dated April 5, 2024.

³ The petitioners are the Catfish Farmers of America and individual U.S. catfish processors America's Catch, Inc., Alabama Catfish, LLC d/b/a Harvest Select Catfish, Inc., Consolidated Catfish Companies, LLC d/b/a Country Select Catfish, Delta Pride Catfish, Inc., Guidry's Catfish, Inc., Heartland Catfish Company, Magnolia Processing, Inc. d/b/a Pride of the Pond, and Simmons Farm Raised Catfish, Inc.

⁴ See Petitioners' Letter, “Case Brief,” dated May 17, 2024.

⁵ See Co May's Letter, “Rebuttal Brief of Co May Import Export Company Limited,” dated May 22, 2024.

⁶ See Hearing Transcript, “Public Hearing in the Matter of: Certain Frozen Fish Fillets from the Socialist Republic of Vietnam, New Shipper Review,” dated May 30, 2024.

⁷ See Memorandum, “Decision Memorandum for the Final Results of the New Shipper Review of the Antidumping Duty Order on Certain Frozen Fish Fillets from the Socialist Republic of Vietnam; 2022-2023,” dated concurrently with, and hereby adopted by, this notice (Issues and Decision Memorandum).

Scope of the Order ⁸

⁸ See Notice of Antidumping Duty Order: Certain Frozen Fish Fillets from the Socialist Republic of Vietnam, 68 FR 47909 (August 12, 2003) (Order).

The products covered by the Order are fish fillets from Vietnam. For a complete description of the scope of this order, see the Issues and Decision Memorandum.

Analysis of Comments Received

We addressed all issues raised in the case and rebuttal briefs filed by interested parties in the Issues and Decision Memorandum. A list of the issues addressed in the Issues and Decision Memorandum is provided in the appendix to this notice. The Issues and Decision Memorandum is a public document and is on file electronically via Enforcement and Compliance's Antidumping and Countervailing Duty Centralized Electronic Service System (ACCESS). ACCESS is available to registered users at http://access.trade.gov. In addition, a complete version of the Issues and Decision Memorandum can be accessed directly at https://access.trade.gov/public/FRNoticesListLayout.aspx.

Verification

From April 1 through 4, 2024, Commerce verified the questionnaire responses of Co May in Vietnam.⁹ We used standard verification procedures, including an examination of relevant sales and accounting records, and original source documents provided by Co May.

⁹ See Memorandum, “Verification of the Questionnaire Responses of Co May Import-Export Company Limited in the New Shipper Review of Certain Frozen Fish Fillets from the Socialist Republic of Vietnam,” dated May 8, 2024.

Changes Since the Preliminary Results

Based on a review of the record, as well as our verification procedures, Commerce made certain changes to the margin calculations for Co May.¹⁰

¹⁰ For a full description of these changes, see Issues and Decision Memorandum.

Final Results of Review

The estimated weighted-average dumping margin for the final results of this new shipper review is as follows:

Exporter | Weighted- average dumping margin (dollars per kilogram)
Co May Import-Export Company Limited | $0.00

Disclosure

We intend to disclose the calculations performed for the final results of this review to parties in this proceeding within five days of the date of publication of this notice in accordance with 19 CFR 351.224(b).

Assessment Rates

Commerce has determined, and U.S. Customs and Border Protection (CBP) shall assess, antidumping duties on all appropriate entries of subject merchandise in accordance with the final results of this review. Pursuant to 19 CFR 351.212(b)(1), because Co May's weighted-average dumping margin is zero, we will instruct CBP to liquidate Co May's entry without regard to antidumping duties. Pursuant to Commerce's assessment practice,¹¹ for entries of Co May's merchandise that were not reported in the U.S. sales data submitted by Co May during this review, Commerce will instruct CBP to liquidate such entries at the Vietnam-wide entity rate.

¹¹ See Non-Market Economy Antidumping Proceedings: Assessment of Antidumping Duties,76 FR 65694 (October 24, 2011).

Commerce intends to issue appropriate assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective upon publication of the final results of this review for shipments of the subject merchandise from Vietnam entered, or withdrawn from warehouse, for consumption on or after the publication date, as provided by section 751(a)(2)(C) of the Tariff Act of 1930, as amended (the Act): (1) for subject merchandise produced and exported by Co May, no cash deposit will be required; (2) for subject merchandise exported by Co May, but not produced by Co May, the cash deposit rate will be the rate for the Vietnam-wide entity; and (3) for subject merchandise produced by Co May, but not exported by Co May, the cash deposit rate will be the rate applicable to the exporter. These cash deposit requirements, when imposed, shall remain in effect until further notice.

Notification to Importers

This notice also serves as a final reminder to importers of their responsibility under 19 CFR 351.402(f) to file a certificate regarding the reimbursement of antidumping duties prior to liquidation of the relevant entries during this POR. Failure to comply with this requirement could result in Commerce's presumption that reimbursement of antidumping duties occurred and the subsequent assessment of doubled antidumping duties.

Administrative Protective Order

This notice also serves as a reminder to parties subject to administrative protective order (APO) of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and terms of an APO is a violation which is subject to sanction.

Notification to Interested Parties

Commerce is issuing and publishing these final results of review in accordance with sections 751(a)(2)(B) and 777(i)(1) of the Act, and 19 CFR 351.214.

Dated: June 14, 2024.
Ryan Majerus,
Deputy Assistant Secretary for Policy and Negotiations, performing the non-exclusive functions and duties of the Assistant Secretary for Enforcement and Compliance.

Appendix

List of Topics Discussed in the Issues and Decision Memorandum

I. Summary

II. Background

III. Scope of the Order

IV. Changes Since the Preliminary Results

V. Discussion of the Issue

Comment 1: Bona Fide Nature of Co May's Sale

VI. Recommendation

[FR Doc. 2024-13856 Filed 6-24-24; 8:45 am]

BILLING CODE 3510-DS-P